DEPARTMENT OF COMMERCE

Foreign-Trade Zones Board

[Docket 7-2001]

Foreign-Trade Zone 129—Bellingham, Washington Application for Subzone Status ARCO Products Company (Oil Refinery Complex); Extension of Public Comment Period

The comment period for the above case, requesting special-purpose subzone status for the oil refining complex of the Atlantic Richfield Company (ARCO), in the Bellingham, Washington, area (66 FR 8930, 2/5/01), is being extended to June 6, 2001, to allow interested parties additional time in which to comment on the proposal.

Comments in writing are invited during this period. Submissions should include 3 copies. Material submitted will be available at: Office of the Executive Secretary, Foreign-Trade Zones Board, U.S. Department of Commerce, Room 4008, 14th & Pennsylvania Avenue, NW., Washington, DC 20230.

Dated: April 12, 2001.
Dennis Puccinelli,
Executive Secretary.

[FR Doc. 01-9980 Filed 4-20-01; 8:45 am]

BILLING CODE 3510-DS-P